DEPARTMENT OF THE INTERIOR

National Park Service

White-Tailed Deer Management Plan Environmental Impact Statement, Rock Creek Park, Washington, DC

AGENCY: National Park Service.

ACTION: Notice of intent to prepare a White-tailed Deer Management Plan Environmental Impact Statement, Rock Creek Park, Washington, DC.

SUMMARY: Under the provisions of the National Environmental Policy Act of 1969, the National Park Service (NPS) is preparing a White-tailed Deer Management Plan Environmental Impact Statement (EIS) for Rock Creek Park, Washington, DC. The purpose of this plan and EIS is to develop a deer management plan that supports long-term protection, preservation, and restoration of native vegetation and other natural and cultural resources within the park. A scoping brochure will be prepared that details the issues identified to date, and possible alternatives to be considered. Copies of the brochure may be obtained from Rock Creek Park Natural Resources Division or the NPS Web site (http://www.nps.gov/rocr).

DATES: The NPS will accept comments from the public for 60 days from the publication of this notice. In addition, public scoping meetings will be conducted at the Rock Creek Park Nature Center. Please check the local newspapers, the NPS Web site (http://www.nps.gov/rocr) or contact the Natural Resources Division, Rock Creek Park.

ADDRESSES: Information will be available for public review and comment at the Rock Creek Park Nature Center, local public libraries, NPS Web site (http://www.nps.gov/rocr), and the Planning, Environment and Public Comment (PEPC) Web site (http://parkplanning.nps.gov).

FOR FURTHER INFORMATION CONTACT: Adrienne A. Coleman, Superintendent, Rock Creek Park, 3545 Williamsburg Lane, NW., Washington, DC 20008, (202) 895-6000.

SUPPLEMENTARY INFORMATION: The purpose of this plan and environmental impact statement is to develop a deer management plan that supports long-term protection, preservation, and restoration of native vegetation and other natural and cultural resources within the park. A deer management plan is needed at this time to address: the potential of deer becoming the dominant force in the park's ecosystem and adversely impacting native vegetation and other wildlife, excessive deer browse causing a decline in forest regeneration and impacting the existing shrubs and herbaceous species, deer impacts on cultural landscapes, and opportunities for coordinating management actions with other jurisdictional entities.

There are a number of objectives for this plan. The plan would develop and implement informed, scientifically-based vegetation impact levels and corresponding measures of deer population size that would serve as a threshold for taking management actions. In addition, it would maintain, restore and promote the natural abundance, distribution, and diversity of native plant species by reducing excessive deer browsing, trampling, and non-native seed dispersal. The plan would allow for white-tailed deer populations within the park while protecting the natural abundance, distribution, and diversity of other native wildlife, including ground nesting birds, from the adverse effects of deer. The plan would also protect the habitat of rare plant and animal species from deer impacts. In addition, the protection of cultural landscapes and visitor safety conflicts with deer would also be addressed. Finally, an objective of the plan would be to call for the sharing of information regarding the role and management of white-tailed deer among park staff, surrounding communities, the public, and other nearby governmental entities managing deer.

Preliminary alternatives that will be considered to meet the purpose and need include: reproductive control, fencing of large park areas to exclude park deer, lethal reduction with and without firearms, limited capture and euthanasia, and a combination of these management strategies. The continuation of current management (no action alternative) will also be analyzed.

Persons commenting on the purpose, need, objectives, preliminary alternatives, or any other issues associated with the plan, may submit comments by any one of several methods. To be most helpful to the scoping process, comments should be received within 60 days of the publication of this Notice of Intent. Comments may be mailed to Natural Resource Management, Rock Creek Park, 3545 Williamsburg Lane, NW., Washington, DC 20008. Comments may also be sent via the Internet at http://parkplanning.nps.gov. Please submit Internet comments as a text file avoiding the use of special characters and any form of encryption. Please put “Deer Management” in the subject line and include your name and return address in your Internet message. If commenters do not receive a receipt confirmation from the system, please contact the Natural Resources Division at (202) 895-6221. Comments may also be hand-delivered to Rock Creek Park Headquarters, 3545 Williamsburg Lane, NW., Washington, DC 20008.

It is the NPS's practice to make comments, including names, home addresses, home phone numbers and e-mail addresses of respondents, available for public review. Individual respondents may request that we withhold their names and/or home addresses, etc., but if they wish us to consider withholding this information they must state this prominently at the beginning of their comments. In addition, they must present a rationale for withholding this information. This rationale must demonstrate that disclosure would constitute a clearly unwarranted invasion of privacy. Unsupported assertions will not meet this burden. In the absence of exceptional, documentable circumstances, this information will be released. The NPS will always make submissions from organizations or businesses, and from individuals identifying themselves as representatives or officials of organizations or businesses, available for public inspection in their entirety.

If commenters wish to have names and/or addresses withheld and comment through the NPS Web site, it is still possible to receive additional information on the project in the future by filling in the name and address field and marking “keep my contact information private” where indicated. If commenters do not want to receive any additional information on the project in the future, they may type “N/A” in the name and address field.

Dated: August 4, 2006.
Joseph M. Lawler,
Regional Director, National Capital Region.

[FR Doc. 06-7981 Filed 9-19-06; 8:45 am]

BILLING CODE 4312-34-P